DEPARTMENT OF ENERGY

Federal Energy Regulatory Commission

Combined Notice of Filings #2

Take notice that the Commission received the following electric corporate filings:

Docket Numbers: EC15-101-000.

Applicants: American Transmission Company LLC.

Description: Application for Authority to Acquire Transmission Facilities Under Section 203 of the FPA of American Transmission Company LLC.

Filed Date: 3/23/15.

Accession Number: 20150323-5267.

Comments Due: 5 p.m. ET 4/13/15.

Take notice that the Commission received the following electric rate filings:

Docket Numbers: ER15-741-001.

Applicants: PacifiCorp.

Description: Tariff Amendment per 35.17(b): PacifiCorp Energy Network Operating Agreement—Deficiency Filing to be effective 2/22/2015.

Filed Date: 3/23/15.

Accession Number: 20150323-5186.

Comments Due: 5 p.m. ET 4/13/15.

Docket Numbers: ER15-1353-000.

Applicants: PacifiCorp.

Description: Section 205(d) rate filing per 35.13(a)(2)(iii): Idaho Power Migration Agreement—LaGrande/Pocatello to be effective 3/24/2015.

Filed Date: 3/23/15.

Accession Number: 20150323-5187.

Comments Due: 5 p.m. ET 4/13/15.

Docket Numbers: ER15-1354-000.

Applicants: Lake Lynn Generation, LLC.

Description: Compliance filing per 35: Change in Status and Amended MBR Tariff to be effective 5/19/2015.

Filed Date: 3/23/15.

Accession Number: 20150323-5221.

Comments Due: 5 p.m. ET 4/13/15.

Docket Numbers: ER15-1355-000.

Applicants: All Dams Generation, LLC.

Description: Compliance filing per 35: Change in Status and Amended MBR Tariff to be effective 5/19/2015.

Filed Date: 3/23/15.

Accession Number: 20150323-5228.

Comments Due: 5 p.m. ET 4/13/15.

Docket Numbers: ER15-1356-000.

Applicants: PE Hydro Generation, LLC.

Description: Compliance filing per 35: Change in Status and Amended MBR Tariff to be effective 5/19/2015.

Filed Date: 3/23/15.

Accession Number: 20150323-5234.

Comments Due: 5 p.m. ET 4/13/15.

Docket Numbers: ER15-1357-000.

Applicants: Golden Spread Electric Cooperative, Inc.

Description: Section 205(d) rate filing per 35.13(a)(2)(iii): Amedment Filing to be effective 1/1/2015.

Filed Date: 3/23/15.

Accession Number: 20150323-5285.

Comments Due: 5 p.m. ET 4/13/15.

Docket Numbers: ER15-1358-000.

Applicants: Rochester Gas and Electric Corporation.

Description: Baseline eTariff Filing per 35.1: Certificate of Concurrence in Amended and Restated SGIA with NYISO to be effective 3/23/2015.

Filed Date: 3/23/15.

Accession Number: 20150323-5289.

Comments Due: 5 p.m. ET 4/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2015.
Nathaniel J. Davis, Sr.,
Deputy Secretary.

[FR Doc. 2015-07153 Filed 3-27-15; 8:45 am]

BILLING CODE 6717-01-P